FEDERAL COMMUNICATIONS COMMISSION

47 CFR Part 15

[ET Docket No. 20-36; FCC 20-156; FR ID 102319]

Unlicensed White Space Device Operations in the Television Bands

AGENCY: Federal Communications Commission.

ACTION: Final rule; announcement of effective date.

SUMMARY: The Federal Communications Commission (Commission) announces that the Office of Management and Budget (OMB) has approved, for a period of three years, the information collection associated with the Commission's Amendment of the Commission's Rules for Unlicensed White Space Operations in the Television Bands, Report and Order and Further Notice of Proposed Rulemaking. This document is consistent with the Order, which stated that the Commission would publish a document in the Federal Register announcing OMB approval and the effective date of the rules related to the information collection.

DATES: Amendatory instruction 4.f. for § 15.709(g)(1)(ii), published at 86 FR 2278, January 12, 2021, is effective September 8, 2022.

FOR FURTHER INFORMATION CONTACT: Hugh Van Tuyl, Office of Engineering and Technology, at (202) 418-7506, or email: Hugh.VanTuyl@fcc.gov.

For additional information concerning the Paperwork Reduction Act information collection requirements, contact Nicole Ongele at (202) 418-2991 or nicole.ongele@fcc.gov.

SUPPLEMENTARY INFORMATION: This document announces that, on July 25, 2022, OMB approved, for a period of three years, the information collection requirements relating to the White Space Database rules contained in the Commission's Amendment of Part 15 of the Commission's Rules for Unlicensed White Space Device Operations in the Television Bands, Report and Order, FCC 20-156 (86 FR 2278, January 12, 2021). The OMB Control Number is 3060-1155. The Commission publishes this document as an announcement of the effective date of the information collection requirements provided at instruction 4.f. for § 15.709(g)(1)(ii).

Synopsis

As required by the Paperwork Reduction Act of 1995 (44 U.S.C. 3507), the FCC is notifying the public that it received final OMB approval on July 25, 2022, for the information collection requirements contained in the Commission's rules in 47 CFR part 15.

Under 5 CFR part 1320, an agency may not conduct or sponsor a collection of information unless it displays a current, valid OMB Control Number.

No person shall be subject to any penalty for failing to comply with a collection of information subject to the Paperwork Reduction Act that does not display a current, valid OMB Control Number.

The OMB Control Number is 3060-1155.

The foregoing notice is required by the Paperwork Reduction Act of 1995, Public Law 104-13, October 1, 1995, and 44 U.S.C. 3507.

The total annual reporting burdens and costs for the respondents are as follows:

OMB Control Number: 3060-1155.

OMB Approval Date: July 25, 2022.

OMB Expiration Date: July 31, 2025.

Title: Sections 15.709, 15.713, 15.714, 15.715 and 15.717, 27.1320, TV White Space Broadcast Bands.

Form Number: N/A.

Respondents: Business or other for-profit.

Number of Respondents and Responses: 1,510 respondents; 3,500 responses.

Estimated Time per Response: 2-5 hours.

Frequency of Response: On occasion; recordkeeping and third-party disclosure requirements.

Obligation to Respond: Required to obtain or retain benefits. The statutory authority for this information collection is contained in sections 47 U.S.C. 154(i), 201, 302a, and 303.

Total Annual Burden: 7,000 hours.

Total Annual Cost: $151,000.

Nature and Extent of Confidentiality: No information is requested that would require assurance of confidentiality.

Privacy Act Impact Assessment: No impact(s).

Needs and Uses: On October 28, 2020, the Federal Communications Commission (Commission) released a Report and Order, 86 FR 2278, January 21, 2021, and Further Notice of Proposed Rulemaking, 86 FR 11490, February 25, 2021, Unlicensed White Space Device Operations in the Television Bands, ET Docket No. 20-36, FCC 20-156. The Commission increased the antenna height above average terrain (HAAT) limit from 250 meters to 500 meters for fixed white space devices operating in “less congested” areas, which are defined as those areas where at least half the TV channels in a device's band of operation are vacant. Parties planning to operate devices with an HAAT that exceeds 250 meters must notify all potentially affected TV stations at least four days before commencing operation in accordance with the procedure set forth in § 15.709(g)(1)(ii). The Commission adopted this procedure because white space devices operating at high HAAT have the potential to interfere with TV reception at large distances.

Federal Communications Commission.
Sheryl Todd,
Deputy Secretary.

[FR Doc. 2022-18960 Filed 9-7-22; 8:45 am]

BILLING CODE 6712-01-P